DEPARTMENT OF THE INTERIOR

National Park Service

[NPS-WASO-NAGPRA-NPS0027461; PPWOCRADN0-PCU00RP14.R50000]

Notice of Inventory Completion: U.S. Army Corps of Engineers, Omaha District, Omaha, NE, and State Archaeological Research Center, Rapid City, SD; Correction

AGENCY: National Park Service, Interior.

ACTION: Notice; correction.

SUMMARY: The U.S. Army Corps of Engineers, Omaha District (Omaha District) has corrected an inventory of human remains and associated funerary objects, published in a Notice of Inventory Completion in the Federal Register on April 13, 2018. This notice corrects the number of associated funerary objects for site 39WW0003. Lineal descendants or representatives of any Indian Tribe or Native Hawaiian organization not identified in this notice that wish to request transfer of control of these associated funerary objects should submit a written request to the Omaha District. If no additional requestors come forward, transfer of control of the associated funerary objects to the lineal descendants, Indian Tribes or Native Hawaiian organizations stated in this notice may proceed.

DATES: Lineal descendants or representatives of any Indian Tribe or Native Hawaiian organization not identified in this notice that wish to request transfer of control of these associated funerary objects should submit a written request with information in support of the request to the Omaha District at the address in this notice by May 24, 2019.

ADDRESSES: Ms. Sandra Barnum, U.S. Army Engineer District, Omaha, ATTN: CENWO-PM-AB, 1616 Capital Avenue, Omaha, NE 68102, telephone, (402) 995-2674, email sandra.v.barnum@usace.army.mil.

SUPPLEMENTARY INFORMATION: Notice is here given in accordance with the Native American Graves Protection and Repatriation Act (NAGPRA), 25 U.S.C. 3003, of the correction of an inventory of human remains and associated funerary objects under the control of the U.S. Army Corps of Engineers, Omaha District, Omaha, NE and in the physical custody of the South Dakota State Archaeological Research Center (SARC). The human remains and associated funerary objects were removed from sites 39WW0003 and 39CA0006, Walworth and Campbell Counties, SD.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

This notice corrects the number of associated funerary objects for site 39WW0003 published in a Notice of Inventory Completion in the Federal Register (83 FR 16124-16125, April 13, 2018). The correction is being made due to additional catalogues being found. Transfer of control of the items in this correction notice has not occurred.

Correction

In the Federal Register (83 FR 16125, April 13, 2018), column 2, paragraph 1, sentence 6 is corrected by substituting the following sentence:

The 846 associated funerary objects include 140 ceramic rim sherds, 629 ceramic body sherds, two ceramic handle sherds, three bone awls (faunal), two bone hoes (faunal), six modified bones (faunal), 12 unidentified bone fragments (faunal), two burnt corn cobs, one wood fragment, 12 glass beads, two abraders, one biface fragment, one biface knife, nine chipped stone flakes, one chipped stone tool, one groundstone, one modified flake, three projectile points, three uniface flakes, one catlinite fragment, one yellow mineral pigment vial, and 13 scrapers.

In the Federal Register (83 FR 16125, April 13, 2018), column 3, paragraph 1, sentence 2 is corrected by substituting the following sentence:

Pursuant to 25 U.S.C. 3001(3)(A), the 2,014 objects described in this notice are reasonably believed to have been placed with or near individual human remains at the time of death or later as part of the death rite or ceremony.

Additional Requestors and Disposition

Lineal descendants or representatives of any Indian Tribe or Native Hawaiian organization not identified in this notice that wish to request transfer of control of these associated funerary objects should submit a written request with information in support of the request to Ms. Sandra Barnum, U.S. Army Engineer District, Omaha, ATTN: CENWO-PM-AB, 1616 Capital Avenue, Omaha, NE 68102, telephone, (402) 995-2674, email sandra.v.barnum@usace.army.mil. After that date, if no additional requestors have come forward, transfer of control of the associated funerary objects to the Three Affiliated Tribes of the Fort Berthold Reservation, North Dakota, may proceed.

The U.S. Army Corps of Engineers, Omaha District is responsible for notifying the Three Affiliated Tribes of the Fort Berthold Reservation, North Dakota, that this notice has been published.

Dated: March 11, 2019.
Melanie O'Brien,
Manager, National NAGPRA Program.

[FR Doc. 2019-08225 Filed 4-23-19; 8:45 am]

BILLING CODE 4312-52-P